FEDERAL HOUSING FINANCE BOARD

12 CFR Part 950

[No. 2000-33]

RIN 3069-AA98

Federal Home Loan Bank Acquired Member Assets, Core Mission Activities, Investments and Advances

Correction

In rule document 00-17663 beginning on page 43969 in the issue of Monday, July 17, 2000, make the following correction:

§950.25 [Corrected]

On page 43981, in the third column, “§950.18 Advances to out-of-district members and housing associates.” should read “§950.25 Advances to out-of-district members and housing associates.”

[FR Doc. C0-17663 Filed 7-25-00; 8:45 am]

BILLING CODE 1505-01-D